DEPARTMENT OF HEALTH AND HUMAN SERVICES

Centers for Disease Control and Prevention

[30Day-11-11BZ]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Quantitative Survey of Physician Practices in Laboratory Test Ordering and Interpretation—NEW—Office of Surveillance, Epidemiology, and Laboratory Services (OSELS), Centers for Disease Control and Prevention (CDC).

Background and Brief Description

The Quantitative Survey of Physician Practices in Laboratory Test Ordering and Interpretation is a national systematic study investigating how the rapid evolution of laboratory medicine is affecting primary care practice. This will be a new collection. The survey will be funded in full by the Office of Surveillance, Epidemiology, and Laboratory Services (OSELS) of the Centers for Disease Control and Prevention (CDC).

The survey follows focus groups of fewer than ten participants with primary care physicians that identified common concerns and problems with laboratory test ordering and test interpretation. The survey will quantify the prevalence and impact of the issues identified within the focus groups. Understanding the relative importance of physician issues in the effective and efficient use of laboratory medicine in diagnosis will guide future efforts of the CDC to improve primary care practice and improve health outcomes of the American public.

The survey covers basic physician demographic characteristics (year of birth, gender, years in practice, physician specialty, professional memberships, practice size and practice setting), practice-related questions including number and type of patients seen weekly. The majority of the questions request information about physician decision making processes involved in test ordering and interpretation.

The effective use of laboratory testing is an important component of the diagnostic process within physician practices. The field of laboratory medicine is undergoing rapid change with the continuing introduction of new tests, increased focus on evidence-based medicine, the deployment of Electronic Health Records, and the wide availability to physicians of electronic information resources, interactive diagnostic tools, and computerized order entry systems. To date, no systematic study has been conducted to investigate how physicians are incorporating these laboratory testing innovations into their day-to-day practices. This survey seeks to provide insight into how physicians integrate laboratory medicine into their routines, and how they manage any challenges they encounter.

The survey will be conducted on a national sample of primary care physicians. There are no costs to respondents except their time. The total estimated annualized burden hours are 373.

Estimated Annualized Burden Hours
Type of respondents | Form name | Number of respondents | Number of responses per respondent | Avg. burden per response (in hrs)
Family Practice Physicians & Internal Medicine Generalists | Laboratory Practices | 1600 | 1 | 14/60

Daniel Holcomb,
Reports Clearance Officer, Centers for Disease Control and Prevention.

[FR Doc. 2011-11528 Filed 5-10-11; 8:45 am]

BILLING CODE 4163-18-P